DEPARTMENT OF EDUCATION

List of Correspondence From October 1, 2013, Through December 31, 2013

AGENCY: Office of Special Education and Rehabilitative Services; Department of Education.

ACTION: Notice.

SUMMARY: The Secretary is publishing the following list of correspondence from the U.S. Department of Education (Department) to individuals during the previous quarter. The correspondence describes the Department's interpretations of the Individuals with Disabilities Education Act (IDEA) or the regulations that implement the IDEA. This list and the letters or other documents described in this list, with personally identifiable information redacted, as appropriate, can be found at: http://www2.ed.gov/policy/speced/guid/idea/index.html.

FOR FURTHER INFORMATION CONTACT: Jessica Spataro or Mary Louise Dirrigl. Telephone: (202) 245-7605.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jessica Spataro or Mary Louise Dirrigl at (202) 245-7605.

SUPPLEMENTARY INFORMATION: The following list identifies correspondence from the Department issued from October 1, 2013, through December 31, 2013. Under section 607(f) of the IDEA, the Secretary is required to publish this list quarterly in the Federal Register. The list includes those letters that contain interpretations of the requirements of the IDEA and its implementing regulations, as well as letters and other documents that the Department believes will assist the public in understanding the requirements of the law. The list identifies the date and topic of each letter and provides summary information, as appropriate. To protect the privacy interests of the individual or individuals involved, personally identifiable information has been redacted, as appropriate.

Part B—Assistance for Education of All Children With Disabilities

Section 612—State Eligibility

Topic Addressed: Least Restrictive Environment

○ Letter dated October 23, 2013, to University of Virginia, Curry School of Education Adapted Physical Education Director Luke E. Kelly, regarding physical education for children with disabilities ages 16 through 21.

Section 614—Evaluations, Eligibility Determinations, Individualized Education Programs, and Educational Placements

Topic Addressed: Evaluation Procedures

○ Letter dated December 20, 2013, to retired South Carolina Distinguished Professor of Education Jim Delisle, regarding students with high cognition who also require special education and related services.

Topic Addressed: Specific Learning Disabilities

○ Letter dated November 5, 2013, to Midcoast Advocacy advocate Buckley J. Hugo, regarding Maine's procedures for determining whether a child has a specific learning disability.

Topic Addressed: Individualized Education Programs

○ Letter dated December 20, 2013, to DePaul University, College of Law Special Education Advocacy Clinical Instructor Deborah Pergament, regarding the impact of a short-term teachers' strike on services for children with disabilities.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 24, 2015.
Sue Swenson,
Acting Assistant Secretary for Special Education and Rehabilitative Services.

[FR Doc. 2015-04283 Filed 2-27-15; 8:45 am]

BILLING CODE 4000-01-P